DEPARTMENT OF EDUCATION

Submission for OMB Review; Comment Request

AGENCY: Department of Education.

ACTION: Correction notice.

SUMMARY: On February 20, 2004, the Department of Education published a 30-day public comment period notice in the Federal Register (Page 7912, Column 1) for the information collection, “Annual Progress Reporting Form for Assistive Technology (AT) Grantees”. The number of burden hours was incorrect and should read 2,464 hours to include an additional four hours for each of the 56 grantees to answer the modified/additional questions.

FOR FURTHER INFORMATION CONTACT: Sheila Carey at her e-mail address Sheila.Carey@ed.gov.

Dated: March 5, 2004.
Angela C. Arrington,
Leader, Regulatory Information Management Group, Office of the Chief Information Officer.

[FR Doc. 04-5425 Filed 3-10-04; 8:45 am]

BILLING CODE 4000-01-P